DEPARTMENT OF ENERGY

Federal Energy Regulatory Commission

[Project No. 12775-001]

City of Spearfish, South Dakota; Notice of Application Tendered for Filing With the Commission, Soliciting Additional Study Requests, and Establishing Procedural Schedule for Relicensing

September 24, 2008.

Take notice that the following hydroelectric application has been filed with the Commission and is available for public inspection.

a. Type of Application: Major Project.

b. Project No.: P-12775-001.

c. Date filed: September 10, 2008.

d. Applicant: City of Spearfish, South Dakota.

e. Name of Project: Spearfish Hydroelectric Project.

f. Location: On Spearfish Creek in Lawrence County, South Dakota. The project occupies about 57.3 acres of United States lands within the Black Hills National Forest administered by the U.S. Forest Service.

g. Filed Pursuant to: Federal Power Act 16 U.S.C. 791(a)-825(r).

h. Applicant Contact: Ms. Cheryl Johnson, Public Works Administrator, City of Spearfish, 625 Fifth Street, Spearfish, SD 57783; (605) 642-1333; or e-mail at cherylj@city.spearfish.sd.us.

i. FERC Contact: Steve Hocking at (202) 502-8753; or e-mail at steve.hocking@ferc.gov.

j. Cooperating agencies: We are asking Federal, state, local, and tribal agencies with jurisdiction and/or special expertise with respect to environmental issues to cooperate with us in the preparation of an environmental document. Agencies who would like to request cooperating status should follow the instructions for filing comments described in item l below. Cooperating agencies should note the Commission's policy that agencies that cooperate in the preparation of an environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: November 10, 2008.

All documents (original and eight copies) should be filed with: Kimberly D. Bose, Secretary, Federal Energy Regulatory Commission, 888 First Street, NE., Washington, DC 20426.

Additional study requests and requests for cooperating agency status may be filed electronically via the Internet in lieu of paper. The Commission strongly encourages electronic filings. See 18 CFR 385.2001(a)(1)(iii) and the instructions on the Commission's Web site (http://www.ferc.gov) under the “e-Filing” link.

m. The application is not ready for environmental analysis at this time.

n. The existing Spearfish Project consists of: (1) A 130-foot-long, 4-foot-high concrete gravity dam; (2) a 0.32-acre reservoir; (3) a gatehouse next to the dam that contains four 2-foot-high, 4-foot-wide steel intake gates; (4) a 4.5-mile-long, 6.5-foot-wide, 9-foot-high concrete-lined rock tunnel; (5) a forebay pond; (6) two 1,200-foot-long, 48-inch diameter, wood stave pipelines; (7) four 36-inch-diameter, 54-foot-high standpipe surge towers; (8) two 4,700-foot-long, 30- to 34-inch diameter steel penstocks; (9) a reinforced concrete powerhouse containing two Pelton turbines and two, 2,000-kilowatt generators; and (10) appurtenant facilities.

o. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659. A copy is also available for inspection and reproduction at the address in item h above.

You may also register online at http://www.ferc.gov/docs-filing/esubscription.asp to be notified via e-mail of new filings and issuances related to this or other pending projects. For assistance, contact FERC Online Support.

p. Procedural schedule: The application will be processed according to the following Hydro Licensing Schedule. Revisions to the schedule will be made as appropriate.

Milestone | Target date
FERC issues any deficiency letter | October 10, 2008.
FERC issues acceptance notice and Scoping Document 1 (SD1) | December 1, 2008.
FERC holds scoping meetings | January, 2009.
All stakeholders: Interventions and protests due | January 30, 2009.
All stakeholders: Comments on SD1 due | February 13, 2009.
FERC issues ready for environmental analysis notice and SD2 | March 2, 2009.
All Stakeholders: Terms and conditions due | May 1, 2009.
FERC issues single environmental assess (EA) (no draft EA) | August 3, 2009.
All stakeholders: EA comments due | September 2, 2009.
All stakeholders: Modified terms and conditions due | November 2, 2009.

Nathaniel J. Davis, Sr.,
Deputy Secretary.

[FR Doc. E8-23061 Filed 9-30-08; 8:45 am]

BILLING CODE 6717-01-P